DEPARTMENT OF HEALTH AND HUMAN SERVICES

Administration for Children and Families

Proposed Information Collection Activity; Comment Request

Proposed Projects: Grants to States for Family Violence Prevention and Services, Grants to Native American Tribes and Alaskan Native Villages, Grants to State Domestic Violence Coalitions.

Title: Grants for Battered Women's Shelters.

OMB No.: 0970-0274.

Description: This information collection is authorized under Title III of the Child Abuse Amendments of 1984, Public Law 98-457, as amended. In response to the program announcements, the respondents submit information about their service programs and their eligibility. Information that is collected is used to award grants under the Family Violence Prevention and Services/Grants for Battered Women's Shelters Program.

Respondents: State agencies administering the Family Violence Prevention and Services program; Native American Tribes and Tribal Organizations administering the Family Violence Prevention and Services program; and state domestic violence coalitions administering the Family Violence Prevention and Services program.

Annual Burden Estimates
Instrument | Number of respondents | Number of responses per respondent | Average burden hours per response | Total burden hours
State FV Agencies | 53 | 1 | 6 | 318
Tribes and Alaskan Villages | 180 | 1 | 6 | 1,080
Domestic Violence Coalitions | 53 | 1 | 6 | 318

Estimated Total Annual Burden Hours: 1,716.

In compliance with the requirements of section 3506(c)(2)(A) of the Paperwork Reduction Act of 1995, the Administration for Children and Families in soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: March 14, 2005.
Robert Sargis,
Reports Clearance Officer.

[FR Doc. 05-5475 Filed 3-18-05; 8:45 am]

BILLING CODE 4184-01-M